DEPARTMENT OF THE INTERIOR

Bureau of Land Management

[ES-032-3-1430-EU]

Realty Action; Recreation and Public Purpose Act Classification; Door County, WI

AGENCY: Bureau of Land Management, Interior.

ACTION: Notice of Realty Action; Recreation and Public Purposes Act Classification; Wisconsin.

SUMMARY: The following public lands near the community of Fish Creek in Door County, Wisconsin have been examined and found suitable for classification for lease or conveyance to the State of Wisconsin Department of Natural Resources (DNR), under the provisions of the Recreation and Public Purposes (R&PP) Act of 1926, as amended (43 U.S.C. 869 et seq.). Therefore, in accordance with Section 7 of the Act of June 28, 1934, as amended (43 U.S.C. 315f) and EO 6964, the following described lands are hereby classified as suitable for disposal under the provisions of the R&PP Act of 1926, as amended (43 U.S.C. 869 et seq.) and, accordingly, opened for only that purpose.

Fourth Principal Meridian

T. 31 N., R. 27 E.,

Eagle Bluff Light Station Reservation, located in Fractional Northeast Quarter of Section 17, being more particularly described as:

Beginning at the Triangulation Station “Eagle Bluff”, 1874, 1934, 1953, T. 31 N., R. 27 E.

Thence,

N. 89° 50′ E, 0.227 chains to the WC MC, the place of beginning,

S. 49° 05′ E., 3.135 chains, to Angle Point #1,

N. 38° 17′ E., 2.502 chains, to Angle Point #2,

N. 40° 10′ 4.001 chains, to MC on the present shoreline of Green Bay,

Thence with meanders of Green Bay,

S. 59° 35′ W., 1.14 chains,

S. 37° 38′ W., 1.90 chains,

S. 30° 23′ W., 0.15 chains to MC on the present shoreline of Green Bay,

Thence,

S. 49° 05′ E., 1.160 chains to WC MC, the place of beginning, as shown on the plat of survey for the Eagle Bluff Light Station accepted for the Director on October 18, 2001.

The area described contains 1.21 acres in Door County

The Wisconsin DNR proposes to integrate the lands into existing Peninsula State Park. This action classifies the lands identified above for disposal through the R&PP Act of 1926 (43 U.S.C. 869 et seq.) to protect the historic light station and the surrounding lands. The subject land was identified in the Wisconsin Resource Management Plan Amendment, approved March 2, 2001, as not needed for Federal purposes and having potential for disposal to protect the historic structures and surrounding lands. Lease or conveyance of the land for recreational and public purpose use would be in the public interest. Detailed information concerning this action is available for review at the office of the Bureau of Land Management, Milwaukee Field Office, Wisconsin.

FOR FURTHER INFORMATION CONTACT: Paul J. Salvatore, Realty Specialist, Bureau of Land Management, Milwaukee Field Office, 310 West Wisconsin Avenue, Suite 450, Milwaukee, Wisconsin 53203, (414) 297-4413.

SUPPLEMENTARY INFORMATION: Pursuant to Executive Order dated October 19, 1866, a parcel of public land totaling 8.8 acres located in Door County, Wisconsin, was reserved for lighthouse purposes. The parcel contained the Eagle Bluff light station located on the eastern shore of Green Bay near the village of Fish Creek, Wisconsin.

On May 28, 1935, through an Act of Congress, the Secretary of Commerce was authorized to dispose of certain lighthouse reservations. Section 28 of that Act authorized the Secretary of Commerce to convey that portion of the Eagle Bluff lighthouse reservation no longer needed for lighthouse purposes to the State of Wisconsin for public park purposes. The Secretary of Commerce conveyed these lands, approximately 7.68 acres, through a deed dated May 9, 1936. The remaining lands continued to be reserved by the 1866 Executive Order after 1936. The Department of Transportation, United States Coast Guard, submitted a Notice of Intent to relinquish custody, accountability and control of the remaining 1.21 acres. The Bureau of Land Management has recommended that the remaining lands be determined suitable for return to their former status as public lands, such determination to be made by the Secretary of the Interior and accomplished by the issuance of a public land order revoking the Executive Order as to the remaining lands. A proposed public land order for this purpose currently is pending and awaiting action within the Department.

The State of Wisconsin DNR has applied for patent to the land under the R&PP Act of 1926, as an addition to Peninsula State Park.

The lease/patent when issued, will be subject to the following terms, conditions and reservations:

1. Provisions of the R&PP Act of 1926, as amended and to all applicable regulations of the Secretary of the Interior.

2. Valid existing rights.

3. All minerals are reserved to the United States, together with the right to prospect for, mine and remove the minerals.

4. Terms and conditions identified through the site specific environmental analysis.

5. Any other rights or reservations that the authorized officer deems appropriate to ensure public access and proper management of Federal lands and interest therein.

Upon publication of this notice in the Federal Register, the above described lands will be segregated from all forms of disposal or appropriation under the public land laws, except for lease or conveyance under the Recreation and Public Purposes Act and leasing under the mineral leasing laws. For a period of 45 days after issuance of this notice, interested parties may submit comments regarding the proposed conveyance or classification of the lands to the Field Manager, Milwaukee Field Office, Bureau of Land Management, 310 West Wisconsin Avenue, Suite 450, Milwaukee, Wisconsin 53203.

Classification Comments: Interested parties may submit comments involving the suitability of the land for R&PP Act classification, and particularly, whether the land is physically suited for inclusion in the state park, whether the use will maximize future use or uses of the land, whether the use is consistent with local planning and zoning, or if the use is consistent with state and federal programs.

Application Comments: Interested parties may submit comments regarding the specific use proposed in the application, the development plan, the management plan, whether the BLM followed proper administrative procedures in reaching the decision, or any other factor not directly related to the suitability of the land for inclusion in the state park.

Any adverse comments will be evaluated by the State Director who may sustain, vacate, or modify this realty action. In the absence of any adverse comments, the classification will become effective 60 days from the date of publication of this notice in the Federal Register.

Dated: May 9, 2003.
James W. Dryden,
Milwaukee Field Manager.

[FR Doc. 03-17389 Filed 7-8-03; 8:45 am]

BILLING CODE 4310-PN-P